DEPARTMENT OF THE INTERIOR

Bureau of Land Management

[AZ-050-00-1430-EU; AZA 29964, AZA 29970, AZA 29972-AZA 29975, AZA 29977, AZA 29979-AZA 29983, AZA 29985-AZA 29989]

Arizona: Notice of Realty Action; Competitive Sale of Public Land in Quartzsite, La Paz County, Arizona

AGENCY: Bureau of Land Management, Interior.

ACTION: Extension of notice.

SUMMARY: The following land in La Paz County, Arizona has been found suitable for disposal under sections 203 and 209 of the Federal Land Policy and Management Act of 1976 (90 Stat. 2750, 43 U.S.C. 1713; 90 Stat. 2757, 43 U.S.C. 1719). The extension will allow additional time to complete the sale.

Gila and Salt River Meridian, Arizona

T. 4 N., R. 19 W.,

Sec. 22, NE¼NE¼SE¼;

Sec. 23, NE¼SW¼,S½NE¼SW¼SW¼, NW¼SW¼SW¼, N½SE¼SW¼, SW¼SE¼SW¼;

Sec. 29, W½NE¼NE¼NE¼, W½NW¼NE¼NE¼, NW¼NE¼, W½NE¼NW¼, SE¼NE¼NW¼, NW¼NW¼.

Aggregating 215.00 acres, more or less.

SUPPLEMENTARY INFORMATION: On December 20, 1996, the Yuma Field Office published a notice for this public land sale in the Federal Register (61 FR 67342). This notice segregated the subject public land from appropriation under the public land laws, including the mining laws, pending disposition of the action or 270 days from the date of publication of the notice in the Federal Register. Four extensions of the Notice have been published in the Federal Register: October 15, 1999 (64 FR 55956); September 23, 1997 (62 FR 49701); June 1, 1998 (63 FR 29746); and January 22, 1999 (64 FR 3543-3544). Upon publication of this Notice in the Federal Register, the segregation will be extended pending disposition of the action or for another 270-day period, whichever occurs first.

FOR FURTHER INFORMATION CONTACT: Debbie DeBock, Realty Specialist, Bureau of Land Management, Yuma Field Office, 2555 East Gila Ridge Road, Yuma, AZ 85365, (520) 317-3208.

Dated: July 11, 2000.
Maureen A. Merrell,
Assistant Field Manager/Acting Field Manager.

[FR Doc. 00-17988 Filed 7-14-00; 8:45 am]

BILLING CODE 4310-32-P